FEDERAL MARITIME COMMISSION

Ocean Transportation Intermediary License; Revocations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

LICENSE NUMBER: 15763N

NAME: Aerorep, Inc.

ADDRESS: 6819 NW 84th Avenue, Miami, FL 33166

DATE REVOKED: September 27, 2000.

REASON: Failed to maintain a valid bond.

LICENSE NUMBER: 4632F

NAME: Combined Logistics, (U.S.A.) Inc.

ADDRESS: 7800 25th Street, Suite 110, Miami, FL 33122

DATE REVOKED: October 6, 2000.

REASON: Failed to maintain a valid bond.

LICENSE NUMBER: 9410N

NAME: Connections International

ADDRRESS: 28301 Industrial Blvd., Suite F, Hayward, CA 94545

DATE REVOKED: September 7, 2000.

REASON: Failed to maintain a valid bond.

LICENSE NUMBER: 9634N

NAME: Dolphin Express, Inc.

ADDRESS: 4201 Long Beach Blvd., #326, Long Beach, CA 90807-2021

DATE REVOKED: October 6, 2000.

REASON: Failed to maintain a valid bond.

LICENSE NUMBER: 13988N

NAME: E.Z. Logistics Inc.

ADDRESS: 147-95 Farmers Blvd., Jamaica, NY 11434

DATE REVOKED: August 9, 2000.

REASON: Failed to maintain a valid bond.

LICENSE NUMBER: 13188N

NAME: Express Ocean Lines, Ltd.

ADDRESS: 72 Linda Avenue, Suite 202, Staten Island, NY 10305

DATE REVOKED: September 18, 2000.

REASON: Failed to maintain a valid bond.

LICENSE NUMBER: 4206F

NAME: International Logistics Corporation

ADDRESS: 1701 Quincy Avenue, Suite 5, Naperville, IL 60540

DATE REVOKED: October 6, 2000.

REASON: Failed to maintain a valid bond.

LICENSE NUMBER: 15547N

NAME: Mercury Lines Inc.

ADDRESS: 701 E. Linden Avenue, Linden, NJ 07036

DATE REVOKED: September 21, 2000.

REASON: Surrendered license voluntarily.

LICENSE NUMBER: 801-R

NAME: Stevens Shipping & Terminal Company

ADDRESS: 26 East Bay Street, P.O. Box 1468, Savannah, GA 31498-5801

DATE REVOKED: September 19, 2000.

REASON: Surrendered license voluntarily.

Sandra L. Kusumoto,
Director, Bureau of Consumer Complaints and Licensing.

[FR Doc. 00-27436 Filed 10-24-00; 8:45 am]

BILLING CODE 6730-01-P